NUCLEAR REGULATORY COMMISSION

Advisory Committee on Reactor Safeguards (ACRS) Subcommittee Meeting on Regulatory Policies and Practices; Notice of Meeting

The ACRS Subcommittee on Regulatory Policies and Practices will hold a meeting on May 6, 2009, in Room T-2B3, Two White Flint North, 11545 Rockville Pike, Rockville, Maryland.

The entire meeting will be open to public attendance.

The agenda for the subject meeting shall be as follows:

Wednesday, May 6, 2009—1:30 p.m. until the conclusion of business.

The Subcommittee will discuss the proposed rule on a voluntary, risk-informed alternative to the current requirements for analyzing the performance of emergency core cooling systems (ECCS) during loss-of-coolant accidents (LOCAs). The proposed rule would also establish procedures and acceptance criteria for evaluating certain changes in plant design and operation, based upon the results of the new analyses of ECCS performance. The Subcommittee will hear presentations by and hold discussions with representatives of the NRC staff, consultants to the staff, and other interested persons regarding this matter. The Subcommittee will gather information, analyze relevant issues and facts, and formulate proposed positions and actions, as appropriate, for deliberation by the full Committee.

Members of the public desiring to provide oral statements and/or written comments should notify the Designated Federal Officer, Dr. Hossein Nourbakhsh (telephone 301-415-5622), five days prior to the meeting, if possible, so that appropriate arrangements can be made. Electronic recordings will be permitted. Detailed procedures for the conduct of and participation in ACRS meetings were published in the Federal Register on October 6, 2008, (73 FR 58268-58269).

Further information regarding this meeting can be obtained by contacting the Designated Federal Officers between 7:45 a.m. and 4:30 p.m. (ET). Persons planning to attend this meeting are urged to contact the above named individual at least two working days prior to the meeting to be advised of any potential changes to the agenda.

Dated: April 8, 2009.
Antonio Dias,
Chief, Reactor Safety Branch B, Advisory Committee on Reactor Safeguards.

[FR Doc. E9-8466 Filed 4-13-09; 8:45 am]

BILLING CODE 7590-01-P